SMALL BUSINESS ADMINISTRATION

[Disaster Declaration # 13271 and # 13272]

Louisiana Disaster # LA-00048

AGENCY: U.S. Small Business Administration.

ACTION: Notice.

SUMMARY: This is a Notice of the Presidential declaration of a major disaster for the State of Louisiana (FEMA-4080-DR), dated 08/31/2012.

Incident: Hurricane Isaac.

Incident Period: 08/26/2012 and continuing.

Effective Date: 08/31/2012.

Physical Loan Application Deadline Date: 10/30/2012.

Economic Injury (EIDL) Loan Application Deadline Date: 05/29/2013.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 08/31/2012, applications for disaster loans may be filed at the address listed above or other locally announced locations.

The following areas have been determined to be adversely affected by the disaster:

Primary Parishes (Physical Damage and Economic Injury Loans): Jefferson; Plaquemines; Saint Bernard; St John The Baptist; Saint Tammany.

Contiguous Parishes/Counties (Economic Injury Loans Only):

Louisiana: Ascension; Lafourche; Livingston; Orleans; Saint Charles; Saint James; Tangipahoa; Washington.

Mississippi: Hancock; Pearl River.

The Interest Rates are:

| Percent
For Physical Damage:
Homeowners With Credit Available Elsewhere: | 3.375.
Homeowners Without Credit Available Elsewhere: | 1.688.
Businesses With Credit Available Elsewhere: | 6.000.
Businesses Without Credit Available Elsewhere: | 4.000.
Non-Profit Organizations With Credit Available Elsewhere: | 3.125.
Non-Profit Organizations Without Credit Available Elsewhere: | 3.000.
For Economic Injury:
Businesses & Small Agricultural Cooperatives Without Credit Available Elsewhere: | 4.000.
Non-Profit Organizations Without Credit Available Elsewhere: | 3.000.

The number assigned to this disaster for physical damage is 132718 and for economic injury is 132720.

(Catalog of Federal Domestic Assistance Numbers 59002 and 59008)

James E. Rivera,
Associate Administrator for Disaster Assistance.

[FR Doc. 2012-22268 Filed 9-10-12; 8:45 am]

BILLING CODE 8025-01-P